DEPARTMENT OF TRANSPORTATION

Pipeline and Hazardous Materials Safety Administration

Hazardous Materials: Notice of Applications for Modifications to Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before January 3, 2022.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety, General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on December 7, 2021.
Donald P. Burger,
Chief, General Approvals and Permits Branch.

Special Permits Data
Application No. | Applicant | Regulation(s) affected | Nature of the special permits thereof
8757-M | Milton Roy, LLC | 173.201(c), 173.202(c), 173.203(c), 173.302a(a)(1), 173.304a(a)(1), 180.205 | To modify the special permit by updating the drawing revision numbers. (modes 1, 2, 3, 4)
11180-M | Affival Inc | 172.300, 172.400, 172.500, 173.1, 173.24(c) | To modify the special permit to authorize welded metal tubing and additional hazardous materials. (modes 1, 2, 3)
16061-M | Battery Solutions, LLC | 172.102(c), 172.102(c)(1), 172.200, 172.300, 172.400, 172.500, 172.600, 172.700(a), 173.159a(c)(2), 173.185(c), 173.185(c)(1)(iii), 173.185(c)(1)(iv), 173.185(c)(1)(v), 173.185(c)(3) | To modify the special permit to authorize additional packagings and to clarify requirements of the special permit. (modes 1, 3)
20470-M | Imperial Automotive Logistics GmbH | 172.101(j) | To modify the special permit to authorize additional authorized lithium ion batteries. (mode 4)

[FR Doc. 2021-27183 Filed 12-15-21; 8:45 am]

BILLING CODE 4909-60-P